SMALL BUSINESS ADMINISTRATION

[Disaster Declaration # 10007 and # 10008]

Indiana Disaster # IN-00001 Disaster Declaration

AGENCY: Small Business Administration.

ACTION: Notice.

SUMMARY: This is a Notice of the Presidential declaration of a major disaster for the State of Indiana (FEMA-1573-DR), dated 01/21/2005.

Incident: Severe Winter Storms and Flooding.

Incident Period: 01/01/2005 and continuing.

Effective Dates: 01/21/2005.

Physical Loan Application Deadline Date: 03/22/2005.

EIDL Loan Application Deadline Date: 10/21/2005.

ADDRESSES: Submit completed loan applications to: U.S. Small Business Administration, Disaster Area Office 1, 360 Rainbow Blvd. South 3rd Floor, Niagara Falls, NY 14303.

FOR FURTHER INFORMATION CONTACT: Alan Escobar, Office of Disaster Assistance, U.S. Small Business Administration, 409 3rd Street, Suite 6050, Washington, DC 20416.

SUPPLEMENTARY INFORMATION: Notice is hereby given that as a result of the President's major disaster declaration on 01/21/2005, applications for disaster loans may be filed at the address listed above or other locally announced locations. The following areas have been determined to be adversely affected by the disaster:

Primary Counties:
Bartholomew | Benton | Blackford | Boone
Brown | Carroll | Cass | Clark
Clay | Clinton | Crawford | Daviess
Decatur | Delaware | Dubois | Floyd
Fountain | Gibson | Grant | Greene
Hamilton | Hancock | Harrison | Hendricks
Henry | Howard | Huntington | Jackson
Jay | Jennings | Johnson | Knox
Lawrence | Madison | Marion | Martin
Miami | Monroe | Montgomery | Morgan
Orange | Owen | Parke | Pike
Posey | Putnam | Randolph | Rush
Scott | Shelby | Sullivan | Tippecanoe
Tipton | Vanderburgh | Vermillion | Vigo
Wabash | Warren | Warrick | Washington
Wells | White

Contiguous Counties:
Indiana
Adams | Allen | Fayette
Franklin | Fulton | Jasper
Jefferson | Kosciusko | Newton
Perry | Pulaski | Ripley
Spencer | Wayne | Whitley
Illinois
Clark | Crawford | Edgar
Edwards | Gallatin | Iroquois
Lawrence | Vermilion | Wabash
White
Kentucky
Daviess | Hardin | Henderson
Jefferson | Meade | Oldham
Trimble | Union
Ohio
Darke | Mercer

The Interest Rates are:

Homeowners With Credit Available Elsewhere | 5.875
Homeowners Without Credit Available Elsewhere | 2.937
Businesses With Credit Available Elsewhere | 5.800
Businesses & Small Agricultural Cooperatives Without Credit Available Elsewhere | 4.000
Other (Including Non-Profit Organizations) With Credit Available Elsewhere | 4.750
Businesses and Non-Profit Organizations Without Credit Available Elsewhere | 4.750

The number assigned to this disaster for physical damage is 100076 and for economic injury is 100080 (Catalog of Federal Domestic Assistance Numbers 59002 and 59008)
Herbert L. Mitchell,
Associate Administrator for Disaster Assistance.

[FR Doc. 05-2453 Filed 2-8-05; 8:45 am]

BILLING CODE 8025-01-P